DEPARTMENT OF HEALTH AND HUMAN SERVICES

National Institutes of Health

Proposed Collection; 30-Day Comment Request; Stakeholder Measures and Advocate Forms at the National Cancer Institute (NCI)

AGENCY: National Institutes of Health, HHS.

ACTION: Notice.

SUMMARY: In compliance with the requirement of the Paperwork Reduction Act of 1995 to provide the opportunity for public comment on proposed data collection projects, the National Institutes of Health, National Cancer Institute (NCI) will publish periodic summaries of proposed projects to be submitted to the Office of Management and Budget (OMB) for review and approval.

DATES: Comments regarding this information collection are best assured of having their full effect if received within 60 days of the date of this publication.

ADDRESSES: Written comments and recommendations for the proposed information collection should be sent within 30 days of publication of this notice to https://www.reginfo.gov/public/do/PRAMain. Find this particular information collection by selecting “Currently under 30-day Review—Open for Public Comments” or using the search function.

FOR FURTHER INFORMATION CONTACT: To obtain a copy of the data collection plans and instruments, submit comments in writing, or request more information on the proposed project, contact Amy Williams, Director of the Office of Advocacy Relations (OAR), NCI, NIH, 31 Center Drive, Bldg. 31, Room 10A28, MSC 2580, Bethesda, MD 20892, or call non-toll-free number 240-781-3406, or email your request, including your address, to amy.williams@nih.gov. Formal requests for additional plans and instruments must be requested in writing.

SUPPLEMENTARY INFORMATION: This proposed information collection was previously published in the Federal Register on May 30, 2024, page 46894 (89 FR 46894) and allowed 60 days for public comment. No public comments were received. The purpose of this notice is to allow an additional 30 days for public comment. The National Cancer Institute (NCI), National Institutes of Health, may not conduct or sponsor, and the respondent is not required to respond to, an information collection that has been extended, revised, or implemented on or after October 1, 1995, unless it displays a currently valid OMB control number.

In compliance with section 3507(a)(1)(D) of the Paperwork Reduction Act of 1995, the National Institutes of Health (NIH) has submitted to the Office of Management and Budget (OMB) a request for review and approval of the information collection listed below.

Proposed Collection Title: Stakeholder Measures and Advocate Forms at the National Cancer Institute (NCI), 0925-0774, Expiration Date10/31/2024, REVISION, National Cancer Institute (NCI), National Institutes of Health (NIH).

Need and Use of Information Collection: This is a request for OMB to approve the revision of the collection titled “Stakeholder Measures and Advocate Forms at the National Cancer Institute (NCI)” for three additional years of data collection. The Office of Advocacy Relations (OAR) disseminates cancer-related information to various stakeholders, seeks input and feedback, and facilitates collaboration to advance NCI's authorized programs. It is beneficial for NCI, through the OAR, to pretest strategies, concepts, activities, and materials while they are under development. Additionally, administrative forms are necessary for collecting demographic information and areas of interest for advocates. Since OAR is responsible for matching advocates to NCI programs and initiatives across the cancer continuum, it is necessary to measure the satisfaction of both internal and external stakeholders with this collaboration. This customer satisfaction research helps ensure the relevance, utility, and appropriateness of OAR and NCI's many initiatives and products. Past research has enabled OAR to monitor stakeholder trends, design and develop materials based on user feedback, assess the impact of activities, and improve service delivery. Primary users are internal, with some advocates providing contact information, demographics, and prior advocacy experience via a link provided to them to input their data.

OMB approval is requested for 3 years. There are no costs to respondents other than their time. The total estimated annualized burden hours are 17.

Estimated Annualized Burden Hours
Type of respondent | Form name | Number of respondents | Number of responses per respondent | Average time per response (in hours) | Total annual burden hour
Individuals | Advocates Survey | 6 | 1 | 5/60 | 1
Individuals | Requestor Survey | 6 | 1 | 5/60 | 1
Individuals | Profile Completion | 30 | 1 | 30/60 | 15
Total |  |  | 42 |  | 17

Dated: September 11, 2024.
Melissa M. Park,
Project Clearance Liaison, National Cancer Institute, National Institutes of Health.

[FR Doc. 2024-21059 Filed 9-16-24; 8:45 am]

BILLING CODE 4140-01-P